DEPARTMENT OF AGRICULTURE

Forest Service

DEPARTMENT OF INTERIOR

Bureau of Land Management

[OR-930-6333-DT; HAG 04-0111]

Notice of Availability (NOA) Record of Decision (ROD) for the Clarification of Provisions Relating to the Aquatic Conservation Strategy in the 1994 Record of Decision for the Northwest Forest Plan; National Forests and Bureau of Land Management Districts Within the Range of the Northern Spotted Owl; Western Oregon and Washington, and Northwestern California

AGENCY: Forest Service, USDA; Bureau of Land Management, USDI.

ACTION: Notice of availability of record of decision.

SUMMARY: In accordance with the National Environmental Policy Act, the Federal Land Policy and Management Act, and the National Forest Management Act, the USDI Bureau of Land Management and the USDA Forest Service announce the decision to amend selected portions of the 1994 Record of Decision for the Northwest Forest Plan. The Aquatic Conservation Strategy (ACS) of the Northwest Forest Plan is intended to maintain or restore watersheds. The Under Secretary of Agriculture and the Assistant Secretary of the Interior have made limited changes to clarify how to implement the ACS. Projects needed to achieve Northwest Forest Plan goals have been delayed or stopped due to misapplication of certain passages in the ACS. The agencies are responding to the underlying need for increased agency success planning and implementing projects, to the extent that the current wording has hindered the agencies' ability to follow Northwest Forest Plan principles and achieve its goals.

ADDRESSES: Copies of the ROD may be requested from the address below or accessed on line at http://www.reo.gov/acs/. ACS EIS, 333 SW. First Avenue, P.O. Box 3623, Portland, Oregon 97208; FAX: (503) 808-2255 [please address fax to “ACS EIS”].

FOR FURTHER INFORMATION CONTACT: Joyce Casey, USDA Forest Service, P.O. Box 3623, Portland, Oregon 97208; phone (503) 808-2286; E-mail: jcasey01@fs.fed.us.

SUPPLEMENTARY INFORMATION: The ROD for the Clarification of Provisions Relating to the Aquatic Conservation Strategy in the 1994 Record of Decision for the Northwest Forest Plan makes limited changes to language within Attachment A of the 1994 (ROD) for the Northwest Forest Plan. These changes amend Forest Service and Bureau of Land Management plans throughout the Northwest Forest Plan area. The limited changes clarify that the proper scale for federal land managers to evaluate progress toward achievement of the ACS objectives is the fifth-field watershed and larger scales. Current land allocations, standards and guidelines, and Northwest Forest Plan goals and objectives would be retained. Readers should note that the Under Secretary of Agriculture for Natural Resources and the Environment and the Assistant Secretary of the Interior for Land and Minerals Management are the responsible officials for this proposed action. Therefore, no administrative review (“appeal”) through the Forest Service will be available on the Record of Decision (ROD) under 36 CFR part 217, and no administrative review (“protest”) through the Bureau of Land Management will be available on the ROD under 43 CFR 1610.5-2. The decision is effective upon signature of the Record of Decision by the responsible officials.

Dated: March 22, 2004.
Linda Goodman,
Regional Forester, Region 6, Forest Service.
Dated: March 19, 2004.
Elaine M. Brong,
State Director, Oregon/Washington, Bureau of Land Management.

[FR Doc. 04-9363 Filed 4-23-04; 8:45 am]

BILLING CODE 4310-33-P